FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A&A Contract Customs Brokers, USA, Inc., A&A International Freight Forwarding (NVO & OFF), #2 12th Street, Blaine, WA 98230, Officers: Michelle R. Russell, Vice President (QI), Graham S. Robins, President, Application Type: QI Change

Abaco Logistics Corporation (OFF), 8051 NW 67th Street, Miami, FL 33166, Officers: Manuel T. Soto, Vice President (QI), Jhon J. Silva Villa, President, Application Type: New OFF License

All International Solutions Inc. (NVO), 281 E. Redondo Beach Blvd., Gardena, CA 90248, Officer: Alexis F. Robin, President (QI), Application Type: New NVO License

Atlas Latin Cargo LLC (NVO & OFF), 5065 NW. 74th Avenue, Suite 7, Miami, FL 33166, Officers: Guillermo S. Carbi H, Manager (QI), Gil De Freites, Manager Member, Application Type: New NVO & OFF License

C & C Group, Inc. (NVO & OFF), 1345 NW 98th Court, Suite 4, Doral, FL 33172, Officers: Claudia E. Quintero, Secretary (QI), Ana K. Carranza, President, Application Type: Transfer to Oceanair Masters Inc.

Cargo Modules LLC (NVO & OFF), 28123 Ella Road, Rancho Palos Verdes, CA 90275, Officers: Werner Staub, Member (QI), Maurin M. Semsch, Member, Application Type: New NVO & OFF License

Caribbean Logistic Solutions, Inc (NVO & OFF), 11200 NW 25th Street, Suite #101, Miami, FL 33172, Officer: Wanda Morel, President (QI), Application Type: New NVO & Off License

Intransia LLC (NVO), 168 Madison Avenue, Suite 600, New York, NY 10016, Officers: Mehmet O. Elbir, Member (QI), Nurettin Babus, Member, Application Type: QI Change

Mach 1 Air Services Incorporated dba Mach 1 Ocean Services (NVO & OFF), 1530 West Broadway Road, Tempe, AZ 85282, Officers: Marva Washburn, Vice President (QI), Eric Bond, President, Application Type: Add Trade Name Mach 1 Global Services and QI Change

Monarch Group International LLC (OFF), 283D Kinderkamack Road, River Edge, NJ 07661, Officer: Suleyman B. Gungor, Member (QI), Application Type: New OFF License

Pacific Shipping Corp. (NVO), 5900 S. Eastern Avenue, Suite 140, Commerce, CA 90040, Officer: Qin Cai, President (QI), Application Type: Name Change to U.S. Pacific Shipping Corp.

Prime Log Solutions Corp (NVO & OFF), 1335 NW 98th Court, Unit 7, Doral, FL 33172, Officers: Gracia A. Salviatti, Secretary (QI), Fabio Moblicci, President, Application Type: New NVO & OFF License

Star Cluster Logistics (NVO & OFF), 4 Executive Circle, Suite 170, Irvine, CA 92614, Officers: James J. Park, Vice President (QI), Hee Kab Park, CEO, Application Type: New NVO & OFF License

Straight Forwarding, Inc. (NVO & OFF), 20974 Currier Road, City of Industry, CA 91789, Officer: Yi-Hsiang (Eric) Wu, President (QI), Application Type: Add OFF Service

Trans Atlantic Shipping of Connecticut, Inc. (NVO), 34 Nelson Street, East Hartford, CT 06108, Officers: Robert Boateng, President (QI), Djan Boateng, Director, Application Type: New NVO License

Transit Air Cargo, Inc. (NVO & OFF), 2204 East 4th Street, Santa Ana, CA 92705, Officers: Jeaneal Rooker, Vice President (QI), Gul Khodayar, President, Application Type: QI Change

Windward Logistics, LLC (NVO & OFF), 6750 NW. 79th Avenue, Miami, FL 33166, Officers: Jorge A. Oria, Managing Member (QI), David Harding, Member, Application Type: New NVO & OFF License

By the Commission.
Dated: May 24, 2013.
Karen V. Gregory,
Secretary.

[FR Doc. 2013-12884 Filed 5-30-13; 8:45 am]

BILLING CODE 6730-01-P